SECURITIES AND EXCHANGE COMMISSION

[Release No. 34-44331; File No. SR-ISE-2001-11]

Self-Regulatory Organizations; Notice of Filing and Order Granting Accelerated Approval of Proposed Rule Change by the International Securities Exchange LLC to Trade Standardized Equity Options on Trust Issued Receipts

May 21, 2001.

Correction

In notice document 01-13325 beginning on page 29193 in the issue of Tuesday, May 29, 2001, the docket line is corrected to read as set forth above.

[FR Doc. C1-13325 Filed 5-31-01; 8:45 am]

BILLING CODE 1505-01-D

DEPARTMENT OF TRANSPORTATION

Federal Aviation Administration

14 CFR Part 121

Flight Crewmember Flight Time Limitations and Rest Requirements; Correction

Correction

In rule document 01-12932 appearing on page 28369 in the issue of Wednesday, May 23, 2001, make the following correction:

§14.121 [Corrected]

On page 28369, in the third column, under the heading Correction, in the second paragraph, in the 6th line, “1, 2001 ” should read “ 17, 2001”.

[FR Doc. C1-12932 Filed 5-31-01; 8:45 am]

BILLING CODE 1505-01-D

DEPARTMENT OF THE TREASURY

Internal Revenue Service

Proposed Collection; Comment Request for Form 8812

Correction

In notice document 01-12741 beginning on page 28034 in the issue of Monday, May 21, 2001, make the following correction:

On page 28034, in the second column, in the DATES section, in the second line, “July 2, 2001” should read “July 20, 2001”.

[FR Doc. C1-12741 Filed 5-31-01; 8:45 am]

BILLING CODE 1505-01-D

DEPARTMENT OF THE TREASURY

Office of the Under Secretary for Domestic Finance

17 CFR Part 450

RIN 1505-AA82

Government Securities Act Regulations; Definition of Government Securities

Correction

In rule document 01-13138 beginning on page 28654 in the issue of Thursday, May 24, 2001, make the following correction:

§450.2 [Corrected]

On page 28655, the table should read as follows:

If . . . | Then . . .
(1)(i) A depository institution is a government securities broker or dealer as defined in sections 3(a)(43) and 3(a)(44) of the Securities Exchange Act of 1934 (15 U.S.C. 78c(a)(43)-(44)) | “Government securities” means those obligations described in subparagraphs (A), (B), (C), or (E) of section 3(a)(42) of the Securities Exchange Act of 1934 (15 U.S.C. 78c(a)(42)(A)-(C), (E))
(ii) A depository institution is exempt under Part 401 of this chapter from the requirements of Subchapter A | “Government securities” means those obligations described in subparagraphs (A), (B), (C), or (E) of section 3(a)(42) of the Securities Exchange Act of 1934 (15 U.S.C. 78c(a)(42)(A)-(C), (E))
(2) A depository institution is not a government securities broker or dealer as defined in sections 3(a)(43) and 3(a)(44) of the Securities Exchange Act of 1934 (15 U.S.C. 78c(a)(43)-(44)) | “Government securities” means those obligations described in subparagraphs (A), (B), or (C) of section 3(a)(42) of the Securities Exchange Act of 1934 (15 U.S.C. 78c(a)(42)(A)-(C))

[FR Doc. C1-13138 Filed 5-31-01; 8:45 am]

BILLING CODE 1505-01-D